DEPARTMENT OF TRANSPORTATION

Federal Aviation Administration

First Meeting: RTCA Special Committee 235 (SC 235)

AGENCY: Federal Aviation Administration (FAA), U.S. Department of Transportation (DOT).

ACTION: First Meeting Notice of RTCA Special Committee 235.

SUMMARY: The FAA is issuing this notice to advise the public of the first meeting of the RTCA Special Committee 235.

DATES: The meeting will be held October 21st-22nd from 9:00 a.m.-5:00 p.m.

ADDRESSES: The meeting will be held at RTCA Headquarters, 1150 18th Street NW., Suite 450, Washington, DC 20036, Tel: (202) 330-0680.

FOR FURTHER INFORMATION CONTACT: The RTCA Secretariat, 1150 18th Street NW., Suite 910, Washington, DC, 20036, or by telephone at (202) 833-9339, fax at (202) 833-9434, or Web site at http://www.rtca.org or Karan Hofmann, Program Director, RTCA, Inc., khofmann@rtca.org, (202) 330-0680.

SUPPLEMENTARY INFORMATION: Pursuant to section 10(a)(2) of the Federal Advisory Committee Act (Pub. L. 92-463, 5 U.S.C., App.), notice is hereby given for a meeting of the RTCA Special Committee 235. The agenda will include the following:

Wednesday, October 21, 2015

1. Welcome

2. Administrative Remarks

3. Introductions

4. Agenda Review

5. RTCA Overview Presentation

a. Background on RTCA, MOPS, and Process

6. SC-235 Scope and Terms of Reference review

7. Overview of DO-227

8. SC-235 Structure and Organization of Work

9. Proposed Schedule

10. RTCA workspace presentation

11. Other Business

12. Date and Place of Next Meeting

13. Adjourn

Thursday, October 22, 2015

14. Continuation of Plenary or Working Group Session

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 13, 2015.
Latasha Robinson,
Management & Program Analyst, Next Generation, Enterprise Support Services Division, Federal Aviation Administration.

[FR Doc. 2015-20276 Filed 8-14-15; 8:45 am]

BILLING CODE 4910-13-P